DEPARTMENT OF DEFENSE

Department of the Army

Notice of Availability of the Final Environmental Impact Statement (FEIS) for Base Closure and Realignment (BRAC) Actions at Fort Belvoir, VA

AGENCY: Department of the Army DoD.

ACTION: Notice of Availability (NOA).

SUMMARY: The Department of the Army announces the availability of an FEIS which evaluates the potential environmental impacts associated with realignment actions directed by the BRAC Commission at Fort Belvoir, Virginia. The FEIS also updates the land use plan portion of the installation's Real Property Master Plan due to the substantial changes at the installation because of the proposed realignment.

DATES: The waiting period for the FEIS will end 30 days after publication of an NOA in the Federal Register by the U.S. Environmental Protection Agency.

ADDRESSES: To obtain a copy of the FEIS contact the Fort Belvoir Directorate of Public Works, 9430 Jackson Loop, Suite 100, Fort Belvoir, Virginia 22060-5116; e-mail address: environmental@belvoir.army.mil.

FOR FURTHER INFORMATION CONTACT: Mr. Don Carr, Fort Belvoir Public Affairs Office, at (703) 805-2583 during normal business hours Monday through Friday.

SUPPLEMENTARY INFORMATION: The subject of the FEIS and the Proposed Action are the construction and renovation activities at the installation associated with the BRAC-directed realignment of Fort Belvoir.

To implement the BRAC recommendations, Fort Belvoir will be receiving personnel, equipment, and missions from various closure and realignment actions within the Department of Defense. To implement the BRAC Commission recommendations, the Army will provide the necessary facilities, buildings, and infrastructure to accommodate personnel being realigned from the Washington Headquarters Services (WHS); National Geospatial-Intelligence Agency (NGA); various Army entities moving from leased space in the National Capital Region (NCR); U.S. Army Medical Command (MEDCOM); Program Executive Office, Enterprise Information Systems (PEO EIS); and Missile Defense Agency Headquarters Command Center (MDA HQCC). Details of the BRAC Commission's recommendations can be found at http://www.brac.gov.

Alternatives in the FEIS include four alternative land use plans that contain alternative means of accommodating the units, agencies and activities being realigned to Fort Belvoir. These alternatives include: (1) Town Center Alternative, (2) City Center Alternative, (3) Satellite Campuses Alternative and (4) Preferred Alternative. The Preferred Alternative contains various elements of the other land use alternatives and includes construction, renovation, and operation of proposed facilities to accommodate incoming military missions as mandated by the 2005 BRAC Commission's recommendations for Fort Belvoir. The No Action Alternative is also addressed in the FEIS.

The FEIS analyses indicate that implementation of the preferred alternative will have short and long-term, significant adverse impacts on the transportation network at Fort Belvoir and its surrounding area, moderate to significant impacts on biological resources, and long-term minor adverse and beneficial impacts on socioeconomic resources. Minor short and long-term adverse impacts on all other resources at the installation would potentially occur from implementation of the preferred alternative. The no action alternative provides the baseline conditions for comparison to the preferred alternative.

An electronic version of the FEIS can be viewed or downloaded from the following Web site: http://www.hqda.army.mil/acsim/brac/nepa_eis_docs.htm.

Dated: June 29, 2007.
Addison D. Davis, IV,
Deputy Assistant Secretary of the Army, (Environment, Safety and Occupational Health).

[FR Doc. 07-3266 Filed 7-5-07; 8:45 am]

BILLING CODE 3710-08-M